DEPARTMENT OF HOMELAND SECURITY

Coast Guard

33 CFR Part 117

[Docket No. USCG-2022-0222]

RIN 1625-AA09

Drawbridge Operation Regulation; Okeechobee Waterway, Stuart, FL; Correction

AGENCY: Coast Guard, DHS.

ACTION: Temporary interim rule; correction.

SUMMARY: The Coast Guard is correcting a temporary interim rule with request for comments that appeared in the Federal Register on August 7, 2024. The temporary interim rule temporarily modifies the operating schedule that governs the Florida East Coast Railroad Bridge, across the Okeechobee Waterway, mile 7.41, at Stuart, FL. The temporary interim rule had a typographical error in one of the amendatory instructions. This document corrects that error.

DATES: Effective September 3, 2024.

FOR FURTHER INFORMATION CONTACT: For information about this document call or email Ms. Jennifer Zercher, Bridge Management Specialist, Seventh Coast Guard District; telephone 571-607-5951, email Jennifer.N.Zercher@uscg.mil.

SUPPLEMENTARY INFORMATION: In FR Doc. 2024-17452 appearing on page 64369 in the Federal Register of Wednesday, August 7, 2024, the following correction is made:

§ 117.317 [Corrected]

1. On page 64369, at the bottom of the first column, in part 117, in amendment 2, the instruction “Section 117.261 is amended by staying paragraph (c) and adding paragraph (k).” is corrected to read “Section 117.317 is amended by staying paragraph (c) and adding paragraph (k).”

Dated: August 28, 2024.
Michael. T. Cunningham,
Chief, Office of Regulations and Administrative Law, U.S. Coast Guard.

[FR Doc. 2024-19697 Filed 8-30-24; 8:45 am]

BILLING CODE 9110-04-P